SCIENCE AND TECHNOLOGY POLICY OFFICE

U.S. Global Change Research Program Prospectus for Its National Global Change Research Plan 2022-2031

AGENCY: Office of Science and Technology Policy (OSTP).

ACTION: Request for public comment.

SUMMARY: The U.S. Global Change Research Program (USGCRP), in collaboration with the Office of Science and Technology Policy (OSTP), requests comments from the public on the draft prospectus of its upcoming decadal Strategic Plan. The USGCRP is nearing the end of the implementation phase of its current plan, the National Global Change Research Plan 2012-2021; the Global Change Research Act calls for a 10-year plan with periodic updates. More detail on USGCRP strategic planning processes to date can be found here. The prospectus for the 2022-2031 Strategic Plan culminates an 8-month effort to solicit inputs from USGCRP member agencies, interagency working groups, and OSTP, as well as recommendations from external organizations such as the National Academies of Sciences, Engineering, and Medicine (NASEM). The prospectus can be accessed for review, and comments may be submitted through the USGCRP Review and Comment (R&C) System.

DATES: Interested persons and organizations are invited to submit comments on or before 11:59 p.m. ET on 11 January 2022.

ADDRESSES: Comments should be submitted electronically via the USGCRP R&C System by the deadline. Due to time constraints, mailed paper submissions will not be accepted. The review system will be taken off-line at close of the review window, so there will be no means to submit late comments.

Instructions: Response to this notice is voluntary. Responses to this notice may be used by the government for program planning on a non-attribution basis. OSTP therefore requests that no business proprietary information or copyrighted information be submitted in response to this notice. Please note that the U.S. Government will not pay for response preparation, or for the use of any information contained in the response.

FOR FURTHER INFORMATION CONTACT: Direct technical questions to David Dokken (Senior Program Officer) at ddokken@usgcrp.gov or 202-419-3473. Process issues or concerns should be addressed to Michael Kuperberg (USGCRP Executive Director) at mkuperberg@usgcrp.gov.

SUPPLEMENTARY INFORMATION: The U.S. Global Change Research Program (USGCRP) coordinates research across 13 Federal agencies to understand the human-induced and natural processes that influence the total Earth system—the atmosphere, land, water, ecosystems, and people. USGCRP was established by Presidential Initiative in 1989 and mandated by Congress in the Global Change Research Act (GCRA) of 1990. It emphasizes research that can be used to answer critical questions about the changing Earth system and how America and the world can respond to those changes. USGCRP builds on a foundation of Federal investments in research and development to ensure that America leads in basic and applied global change research.

The prospectus captures USGCRP's evolving vision and mission and describes priorities and activities that drive near-term activities while providing the flexibility to address longer term challenges. Disciplinary/technological advances, changing societal urgencies, and new challenges require a fresh perspective. Four strategic pillars have been identified and annotated to show alignment with the GCRA. Proposed page allocations and prospective boxes/graphics have been included in an abridged outline, with development milestones (including opportunities for public engagement) rounding out the prospectus.

USGCRP is seeking feedback on the strategic pillars and priorities, as well as themes or topics that should be included in the final Strategic Plan. Respondents should consider ideas on emerging, large-scale scientific questions related to global change and/or response, especially those where interagency collaboration will be critical; specific information on how science is or is not being used to inform societal response to climate change, and why; and knowledge gaps and obstacles to implementing scientific tools or knowledge.

Individuals wishing to participate in the public review of the 2022-2031 Strategic Plan prospectus are encouraged to register via the USGCRP Review and Comment (R&C) System. The document and instructions are available through 11 January 2022.

The draft prospectus was prepared and vetted by Federal agency officials comprising the Subcommittee on Global Change Research (SGCR), which provides overall direction and executive oversight of the Program. SGCR—whose membership includes representatives of scientific and implementing agencies—is a standing body of the Committee on Environment, a component of the National Science and Technology Council (NSTC).

Dated: November 29, 2021.
Stacy Murphy,
Operations Manager.

[FR Doc. 2021-26218 Filed 12-3-21; 8:45 am]

BILLING CODE 3271-F1-P